DEPARTMENT OF ENERGY

Federal Energy Regulatory Commission

[Docket No. RP03-515-000]

Dominion Transmission, Inc.; Notice of Report of Overrun/Penalty Revenue Distribution

June 12, 2003.

Take notice that on June 6, 2003, Dominion Transmission, Inc. (DTI) tendered for filing its report of overrun/penalty revenue distribution. Section 41 of the General Terms and Conditions of DTI's FERC Gas Tariff, Crediting of Unauthorized Overrun Charge and Penalty Revenues, requires distribution of such charges and revenues to non-offending customers on June 30 of each year, and filing of the related report within 30 days of the distribution.

DTI states that it distributed the penalty revenues to customers one month early, on May 30, 2003, due to a physical move of the Regulatory & Pricing Department that will be occurring in mid to late June.

DTI states that copies of the transmittal letter and summary workpapers are being mailed to DTI's customers and to all interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before the intervention and protest date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 19, 2003.

Magalie R. Salas,
Secretary.

[FR Doc. 03-15433 Filed 6-18-03; 8:45 am]

BILLING CODE 6717-01-P